DEPARTMENT OF TRANSPORTATION

Surface Transportation Board

[STB Finance Docket No. 34035]

The Central Illinois Railroad Company-Acquisition and Operation Exemption-Rail Lines of Union Pacific Railroad Company and Canadian Pacific Rail System at Elk Grove Village, Cook and DuPage Counties, IL

The Central Illinois Railroad Company (CIRY), a Class III rail carrier, has filed a verified notice of exemption under 49 CFR 1150.41 to acquire by lease and operate rail lines owned by the Union Pacific Railroad Company (UP) and the Canadian Pacific Rail System (CP). CIRY describes the track in greater detail as follows: the Centex Industrial Park Trackage owned by UP, or jointly by UP and CP, beginning at the west edge of York Road, which is the west end of UP's approximately 800-foot Elk Grove lead track that extends from UP's Milwaukee Subdivision, at milepost 7.8, consisting of approximately 25 miles of tracks.¹

¹ On April 25, 2001, a petition to stay the effective date of the exemption was filed by Joseph C. Szabo, for and on behalf of United Transportation Union-Illinois Legislative Board. The petition for stay was denied in The Central Illinois Railroad Company-Acquisition and Operation Exemption-Rail Lines of Union Pacific Railroad Company and Canadian Pacific Rail System at Elk Grove Village, Cook and DuPage Counties, IL, STB Finance Docket No. 34035 (STB served Apr. 27, 2001).

The transaction was scheduled to be consummated no earlier than April 30, 2001, the effective date of the exemption (7 days after the exemption was filed).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34035, must be filed with the Surface Transportation Board, Office of the Secretary, Case Control Unit, 1925 K Street, N.W., Washington, DC 20423-0001. In addition, a copy of each pleading must be served on Thomas F. McFarland, Jr., Esq., McFarland & Herman, 20 North Wacker Drive, Suite 1330, Chicago, IL 60606-2902.

Board decisions and notices are available on our website at www.stb.dot.gov.

Decided: May 1, 2001.
By the Board, David M. Konschnik, Director, Office of Proceedings.
Vernon A. Williams,
Secretary.

[FR Doc. 01-11367 Filed 5-4-01; 8:45 am]

BILLING CODE 4915-00-P